DEPARTMENT OF COMMERCE

National Oceanic and Atmospheric Administration

[RTID 0648-XE756]

New England Fishery Management Council; Public Meeting

AGENCY: National Marine Fisheries Service (NMFS), National Oceanic and Atmospheric Administration (NOAA), Commerce.

ACTION: Notice of public meeting.

SUMMARY: The New England Fishery Management Council (Council, NEFMC) will hold a four-day hybrid meeting with both in-person and remote participation to consider actions affecting New England fisheries in the exclusive economic zone (EEZ).

DATES: The meeting will be held on Monday, April 14, 2025 through Thursday, April 17, 2025, beginning at 1 p.m. on Monday, April 14 and 9 a.m. on Tuesday, April 15, Wednesday, April 16 and Thursday, April 17, 2025.

ADDRESSES: The meeting will take place at Hilton Hotel, 20 Coogan Boulevard, Mystic, CT 06355; telephone: (860) 572-0731; online at https://www.hilton.com/en/hotels/mysmhhf-hilton-mystic/. Join the webinar at https://nefmc-org.zoom.us/webinar/register/WN_VZj6UdAZSTKFHELoBPmeqA.

Council address: New England Fishery Management Council, 50 Water Street, Mill 2, Newburyport, MA 01950; telephone (978) 465-0492; www.nefmc.org.

FOR FURTHER INFORMATION CONTACT: Cate O'Keefe, Executive Director, New England Fishery Management Council; telephone: (978) 465-0492, ext. 113.

SUPPLEMENTARY INFORMATION:

Agenda

Monday, April 14, 2025

The Council will commence its meeting with a closed session of the Executive Committee, pursuant to the Magnuson-Stevens Fishery Conservation and Management Act, this closed session will be held to discuss sensitive information about Council resources. At 1 p.m., the Council Meeting will open to the public and begin with introductions and announcements led by the Council Chair Rick Bellavance. Following this, reports on recent activities will be provided by representatives from various organizations, including the Council Chair, Council Executive Director, Greater Atlantic Regional Fisheries Office (GARFO) Regional Administrator, National Oceanic and Atmospheric Administration (NOAA) General Counsel, Northeast Fisheries Science Center (NEFSC), Mid-Atlantic Fishery Management Council (MAFMC), Atlantic States Marine Fisheries Commission (ASMFC), U.S. Coast Guard, and NOAA Enforcement. Following Reports, Megan Ware and the Working Group will lead a session on Risk Policy. This will include a review Risk Policy implementation, and a weightings exercise based on the factors outlined in the Risk Policy Concept.

Tuesday, April 15, 2025

On Tuesday, the Council will begin a 9 a.m. with a recap of the Day 1 Risk Policy weightings exercise and a presentation of results. Following this, Katherine “KB” McArdle from the NEFSC will provide an overview of the Fishery Monitoring and Research Division's (FMRD) activities, including updates on sea-day accomplishments, upcoming requirements, the at-sea monitoring spend plan, and a data consolidation and modernization project. Then the Habitat Committee Report, presented by Melissa Smith, will cover the initiation of a framework to revise Essential Fish Habitat (EFH) designations for several species, including Atlantic herring, Atlantic cod, skates, and monkfish. There will be an open public comment period where individuals may provide remarks on issues relevant to Council business including issues not listed on the agenda. In the afternoon, the Groundfish Committee Report, led by Rick Bellavance, will include updates on Amendment 23, Framework 68, and the Redfish Sector Exemption Program Review. Later, Sector Manager Hank Soule and Glenn Chamberlain from the NEFSC will present the challenges and potential solutions related to achieving high target rates for sector observer coverage. The Council will adjourn at 5 p.m., and attendees are invited to a public outreach session in the lobby of the Hilton Hotel, Mystic, where Council members, staff, industry representatives, and meeting attendees can engage in discussions.

Wednesday, April 16, 2025

On the third day, the Council will begin with a presentation from the NEFSC on the peer-reviewed results of the 2025 Atlantic Herring Research Track Assessment. Following this, the Atlantic Herring Committee Report, led by Cheri Patterson and Dr. Lisa Kerr, will include discussions on updated Overfishing Limit (OFL) and Acceptable Biological Catch (ABC) recommendations from the Scientific and Statistical Committee (SSC) and potential Council action to revise specifications for 2025-2027. The last morning session will be a State of the Ecosystem presentation, delivered by Dr. Joe Caracappa and Dr. Lisa Kerr, who will provide insights into the 2025 State of the Ecosystem Report for New England waters. After the lunch break, John Pappalardo will present an overview of the Climate and Ecosystem Steering Committee's inaugural meeting, a draft Statement of Organization, Practices, and Procedures (SOPPs), and the 2025 workplan, as well as updates on Council IRA-funded projects. Next, the On-Demand Fishing Gear Conflict Working Group will initiate a framework to revise regulations for on-demand fishing gear in New England and Mid-Atlantic fixed-gear fisheries. Finally, the Monkfish and Skate Committee Reports, led by Matt Gates and Scott Olszewski, will provide updates on 2025 monkfish and skate priorities, including the initiation of Monkfish Framework Adjustment 17 to set fishing year 2026-2028 specifications and the initial discussion on Skate 2025-2027 specifications.

Thursday, April 17, 2025

The Council will begin the fourth and final day with a Congressional Update from Dave Whaley. Following this, the Scallop Committee Report, presented by Melanie Griffin, will include an overview of input from visioning sessions, a call for workplan approval, and a discussion of next steps for the Scallop Strategic Plan. Additionally, there will be a progress report on the five-year review of the Limited Access General Category (LAGC) Individual Fishing Quota (IFQ) Program. The meeting will conclude with any other business that needs to be addressed.

Although non-emergency issues not listed on the agenda may arise, formal Council action will be restricted to the issues specified in this notice. Emergency actions requiring immediate attention may be considered under section 305(c) of the Magnuson-Stevens Fishery Conservation and Management Act, provided the public has been notified. The public should also be aware that the meeting will be recorded, and a copy of the recording is available upon request, consistent with 16 U.S.C. 1852.

Special Accommodations

This meeting is physically accessible to people with disabilities. Requests for sign language interpretation or other auxiliary aids should be directed to Executive Director Cate O'Keefe (see ADDRESSES) at least 5 days prior to the meeting date.

Authority: 16 U.S.C. 1801 et seq.

Dated: March 12, 2025.
Rey Israel Marquez,
Acting Deputy Director, Office of Sustainable Fisheries, National Marine Fisheries Service.

[FR Doc. 2025-04282 Filed 3-14-25; 8:45 am]

BILLING CODE 3510-22-P